NATIONAL CREDIT UNION ADMINISTRATION

Agency Information Collection Activities: Submission to OMB for Review; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public.

DATES: Comments will be accepted until April 9, 2007.

ADDRESSES: Interested parties are invited to submit written comments to NCUA Clearance Officer listed below: Clearance Officer: Mr. Neil McNamara, National Credit Union Administration, 1775 Duke Street, Alexandria, Virginia 22314-3428, Fax No. 703-837-2861, E-mail: OCIOmail@ncua.gov.

FOR FURTHER INFORMATION CONTACT: Requests for additional information or a copy of the information collection request, should be directed to Tracy Sumpter at the National Credit Union Administration, 1775 Duke Street, Alexandria, VA 22314-3428, or at (703) 518-6444.

SUPPLEMENTARY INFORMATION: Proposal for the following collection of information:

Title: Federal Credit Union (FCU) Recordkeeping of Meeting Minutes and Other Documents.

OMB Number: 3133-0057.

Form Number: None.

Type of Review: Reinstatement, without change, of a previously approved collection.

Description: The Federal Credit Union (FCU) Act and NCUA's FCU Bylaws require each FCU to prepare and maintain minutes of its board and member meetings and copies of other documents and election results. Additionally, the board's secretary must inform the NCUA Board of any address change of a Federal credit union.

Respondents: Federal credit unions.

Estimated No. of Respondents/Recordkeepers: 5,189.

Estimated Burden Hours per Response: 3.25 hours.

Frequency of Response: Recordkeeping and reporting on occasion and annually.

Estimated Total Annual Burden Hours: 17,902.05 hours.

Estimated Total Annual Cost: N/A.

By the National Credit Union Administration Board on March 2, 2007.
Mary Rupp,
Secretary of the Board.

[FR Doc. E7-4203 Filed 3-8-07; 8:45 am]

BILLING CODE 7535-01-P